DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1112.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Protection and Advocacy for Individuals With Mental Illness (PAIMI) Final Rule, 42 CFR Part 51 (OMB No. 0930-0172)—Extension

These regulations meet the directive under 42 U.S.C. 10826(b) requiring the Secretary to promulgate final regulations to carry out the PAIMI Act (42 U.S.C. 10801 et seq.). The regulations contain information collection requirements associated with the rule. The Act authorizes funds to support activities on behalf of individuals with significant (severe) mental illness (adults) or significant (severe) emotional impairment (children/youth) as defined by the Act at 42 U.S.C. 10802(4) and 10804(d). Only entities designated by the governor of each State, including the American Samoa, Guam, Commonwealth of the Northern Mariana Islands, Commonwealth of Puerto Rico, U.S. Virgin Islands, District of Columbia (Mayor), and the tribal councils of the American Indian Consortium (the Hopi Tribe and the Navajo Nation located in the Four Corners region of the Southwest), to protect and advocate the rights of persons with developmental disabilities are eligible to receive PAIMI Program grants [ibid at 42 U.S.C. at 10802(2)]. These grants are based on a formula prescribed by the Secretary [ibid at 42 U.S.C. at 10822(a)(1)(A)].

On January 1, each eligible state protection and advocacy (P&A) system is required to prepare an annual PAIMI Program Performance Report (PPR). Each annual PPR describes a P&A system's activities, accomplishments and expenditures to protect the rights of individuals with mental illness supported with payments from PAIMI program allotments during the most recently completed fiscal year. Each P&A system transmit a copy of its annual report to the Secretary (via SAMHSA) and to the State Mental Health Agency where the system is located per the PAIMI Act at 42 U.S.C. 10824(a). Each annual PPR must provide the Secretary with the following information:

• The number of (PAIMI-eligible) individuals with mental illness served;

• A description of the types of activities undertaken;

• A description of the types of facilities providing care or treatment to which such activities are undertaken;

• A description of the manner in which the activities are initiated;

• A description of the accomplishments resulting from such activities;

• A description of systems to protect and advocate the rights of individuals with mental illness supported with payments from PAIMI program allotments;

• A description of activities conducted by states to protect and advocate such rights;

• A description of mechanisms established by residential facilities for individuals with mental illness to protect such rights;

• A description of the coordination among such systems, activities, and mechanisms;

• Specification of the number of public and nonprofit P&A systems established with PAIMI program allotments; and

• Recommendations for activities and services to improve the protection and advocacy of the rights of individuals with mental illness and a description of the need for such activities and services that were not met by the state P&A systems established under the PAIMI Act due to resource or annual program priority limitations.

Each PAIMI grantee's annual PPR must include a separate section, prepared by its PAIMI Advisory Council (PAC), that describes the council's activities and its assessment of the state P&A system's operations per the PAIMI Act at 42 U.S.C. 10805(7).

In 2017, SAMHSA included the annual PAIMI PPR in the Web-based Block Grant Application System (WebBGAS). WebBGAS, SAMHSA's electronic data system, is used to collect grantee information for the following reasons:

(1) To meet the OMB requirements for data collection for mandatory (formula) grant programs;

(2) To comply with the annual program reporting requirements of the PAIMI Act, 42 U.S.C. 10801 et seq. and the PAIMI Rules 42 CFR part 51;

(3) To simplify the submission of PAIMI Program data by the state P&A systems;

(4) To meet the Government Performance and Results Act (GPRA) requirements;

(5) To comply with the Government Accountability Office (GAO) evaluation recommendations that SAMHSA obtain information that closely measures the actual outcomes of the programs it funds;

(6) To reduce the grantee data collection burden by removing information that did not facilitate evaluation of a PAIMI grantee's programmatic and financial management systems;

(7) To provide immediate access to the PAIMI program data used to prepare a section of the Secretary's biennial report to the President, Congress, and National Council on Disability in accordance with the Developmental Disabilities Assistance Act of 2000 at 42 U.S.C. 15005. Reports of the Secretary;

(8) To improve SAMHSA's ability to create reports, analyze trends, and provide timely feedback to the P&A grantees when PPR revisions are needed.

On July 17, 2017, OMB approved SAMHSA's PPR and Advisory Council Report (Control No. 0930-0169, Expiration Date July 31, 2020). The burden estimate for the annual state P&A system reporting requirements for these regulations is as follows:

42 CFR citation | Number of respondents | Responses per respondent | Burden/ response (hrs.) | Total hour burden
51.8(a)(2) Program Performance Report (1) |  |  |  |
51.8(8)(a)(8) Advisory Council Report * |  |  |  |
51.10 Remedial Actions: Corrective Action Plans & Implementation Status Reports | 5 5 | 2 3 | 8 2 | 80 30
51.23(c) Reports, materials and fiscal data provided to the Advisory Council | 57 | 1 | 1 | 57
51.25(b)(3) Grievance Procedure | 57 | 1 | 0.5 | 28.5
51.43 Written denial of access by P&A system ** |  |  |  |
Total | 57 |  | 11.5 | 195.5
Note: Burden for the annual application [42 CFR 51.5 (b-d)] is approved at a standard level per application under OMB control number 0920-0428.
* Responses and burden hours associated with these reports are approved under OMB No. 0930-0169.
** There is no burden estimate associated with this program provision. State P&A systems report that when a facility denies a P&A system access to the facility, a client, or records, the P&A attempts to resolve the dispute through negotiation, conciliation, mediation, and other non-adversarial techniques. Only after exhausting the non-legal remedies provided under state and federal laws will a P&A system file a formal complaint in the appropriate federal district court. See also, the PAIMI Act at 42 U.S.C. 10807(a)—Legal Actions and the PAIMI Final Rule at 42 CFR 51.32—Resolving Disputes.

Send comments to Janet Heekin, SAMHSA Reports Clearance Officer, 5600 Fishers Lane, Room 15E21-B, Rockville, MD 20857 OR email her a copy at janet.heekin@samhsa.hhs.gov. Written comments should be received by August 12, 2019.

Dated: June 6, 2019.
Carlos Castillo,
Committee Management Officer.

[FR Doc. 2019-12293 Filed 6-10-19; 8:45 am]

BILLING CODE 4162-20-P